DEPARTMENT OF COMMERCE

National Oceanic and Atmospheric Administration

[I.D. 042304A]

Notice of Intent to Conduct Public Scoping and Prepare an Environmental Impact Statement Related to Two Joint State and Tribal Resource Management Plans for Puget Sound Region Hatchery Programs

AGENCY: National Marine Fisheries Service (NMFS), National Oceanic and Atmospheric Administration (NOAA), Commerce.

ACTION: Notice of Intent to prepare an Environmental Impact Statement.

SUMMARY: Pursuant to the National Environmental Policy Act (NEPA), this notice advises the public that NMFS intends to gather information necessary to prepare an Environmental Impact Statement (EIS). The EIS will identify effects on the human environment that may potentially result from implementation of two hatchery Resource Management Plans jointly proposed by the Washington Department of Fish and Wildlife and the Puget Sound Treaty Tribes (referred to as the co-managers) for NMFS evaluation and determination under the Endangered Species Act for threatened salmon. The Resource Management Plans are the proposed framework through which the co-managers would jointly manage Puget Sound region hatchery programs rearing steelhead and chinook, coho, pink, sockeye, and chum salmon while meeting conservation requirements specified under the Endangered Species Act (ESA).

NMFS provides this notice to (1) advise other agencies and the public of our intentions and, (2) obtain suggestions and information on the scope of issues to include in the EIS.

DATES: Written scoping comments are encouraged, and should be received at the appropriate address or fax number (see ADDRESSES) no later than 5 p.m. Pacific daylight time on July 12, 2004. NMFS will hold four public scoping meetings. Each meeting will begin at 6 p.m. with a half-hour open house to accommodate informal discussion; presentations will begin at 6:30 p.m.

The meeting dates and locations are:

June 7, 2004, 6 - 8:30 p.m., Public Utility District No. 1 of Skagit County, 1415 Freeway Drive, Mount Vernon, WA.

June 8, 2004, 6 - 8:30 p.m., NOAA Office, 7600 Sand Point Way N.E., Building 9 Auditorium, Seattle, WA.

June 14, 2004, 6 - 8:30 p.m., Mary E. Theler Community Center, 2871 NE State Route 3, Belfair, WA.

June 15, 2004, 6 - 8:30 p.m., Jefferson County Public Library, 620 Cedar Avenue, Port Hadlock, WA.

ADDRESSES: Address comments and requests for information related to preparation of the EIS, or requests to be added to the mailing list for this project, to Allyson Ouzts, NMFS, 525 N.E. Oregon Street, Suite 510, Portland, OR 97232; facsimile (503) 872-2737. Comments may be submitted by e-mail to the following address: PShatcheryEIS.nwr@noaa.gov. In the subject line of the e-mail, include the document identifier: Puget Sound Region Hatchery EIS. Comments and materials received will be available for public inspection, by appointment, during normal business hours at the above address.

FOR FURTHER INFORMATION CONTACT: Allyson Ouzts, NMFS, by phone at (503) 736-4736. In addition, further information regarding this project, including the co-managers' Resource Management Plans and their associated HGMPs may be found at: www.nwr.noaa.gov.

SUPPLEMENTARY INFORMATION:

Species Listed in This Notice

The following species and Evolutionarily Significant Units (ESUs) under NMFS jurisdiction potentially would be affected by the proposed action:

Puget Sound chinook salmon (Oncorhynchus tshawytscha)

Hood Canal summer chum salmon (O. keta)

Steller sea-lions (Eumetopias jubatus).

Listed species regulated by the United States Fish and Wildlife Service that may be affected by the proposed action include bull trout (Salvelinus confluentus), bald eagles (Haliaeetus leucocephalus), brown pelicans (Pelecanus occidentalis), marbled murrelets (Brachyramphus marmoratus marmoratus), and Northern spotted owls (Strix occidentalis caurina).

Background

NEPA requires Federal agencies to conduct an environmental analysis of their proposed actions to determine if the actions may affect the human environment. According to NMFS' NEPA environmental review procedures (NAO-216.6), NMFS' action of evaluating the co-managers' Resource Management Plans for ESA compliance is a major Federal action subject to environmental review under NEPA. Therefore, NMFS is seeking public input on the scope of the required NEPA analysis, including the range of reasonable alternatives and the associated impacts of any alternatives.

The ESA contains several sections that set the foundation for managing listed species. Section 9(a)(1) of the ESA makes it illegal for any person subject to United States jurisdiction to “take” ESA listed Pacific salmon without authorization from NMFS. The term “take” is defined under the ESA as to harass, harm, pursue, hunt, shoot, wound, kill, trap, capture, collect, or to attempt to engage in any such conduct (16 U.S.C. 1532(19)). NMFS' definition of harm includes significant habitat modification or degradation where it kills or injures fish or wildlife by significantly impairing essential behavioral patterns, which include breeding, feeding, spawning, migrating, rearing, and sheltering (64 FR 60727, November 8, 1999).

Section 4(d) of the ESA discusses the treatment of species listed as threatened. It states that, whenever a species is listed as threatened, the Secretary “shall issue such regulations as he deems necessary and advisable to provide for the conservation of the species.” Such protective regulations may include any or all of the prohibitions that apply automatically to protect endangered species under ESA section 9.

In 2000, NMFS applied the ESA section 9 take prohibitions to several threatened salmonid species. However, NMFS also provided some exceptions to the application of these section 9 take prohibitions. These exceptions are referred to as 4(d) limits; they specify categories of activities to which section 9 take prohibitions may not apply when activities contribute to conserving listed salmonids or are governed by programs that adequately limit impacts on listed salmonids.

Under Limit 6 of the 4(d) Rule, State and Tribal governments conducting jointly-managed hatchery or fishery activities would not be subject to the ESA section 9 take prohibitions provided that activities are implemented under a Resource Management Plan that meets the requirements of Limit 6. For NMFS to determine that a Resource Management Plan meets the requirements of Limit 6, the plan must clearly state its intended scope and area of impact and define management objectives consistent with the criteria referenced in Limit 6 of the 4(d) rule.

The co-managers have jointly submitted to NMFS two Resource Management Plans for Puget Sound region hatcheries. One plan describes hatchery programs that produce chinook salmon. The other plan describes hatchery programs that produce steelhead, and coho, sockeye, pink, and chum salmon. Appended to the overarching Resource Management Plans are 117 individual Hatchery and Genetic Management Plans (HGMPs) for each hatchery program. The HGMPs describe each hatchery program in more detail, including specific measures proposed by the co-managers to minimize the risk of adversely affecting Puget Sound chinook salmon and Hood Canal summer chum salmon. NMFS listed both salmon species as threatened in March 1999 (64 FR 14308). The Puget Sound chinook salmon Evolutionarily Significant Unit (ESU; NMFS' application of distinct population segment to salmon) includes all naturally spawned spring, summer, and fall runs of chinook salmon in the Puget Sound region from the North Fork Nooksack River, extending into south Puget Sound, Hood Canal, and the eastern Strait of Juan de Fuca, including the Elwha River on the Olympic Peninsula. This ESU is located in portions of Clallam, Island, King, Kitsap, Jefferson, Mason, Pierce, San Juan, Skagit, Snohomish, Thurston, and Whatcom Counties in Washington State. The Hood Canal summer chum salmon ESU includes all naturally spawned summer-run chum in tributaries to Hood Canal and Discovery, Sequim, and Dungeness Bays in the eastern Strait of Juan de Fuca. This ESU is located in portions of Clallam, Jefferson, Kitsap, and Mason Counties of Washington State.

NMFS will conduct an environmental review of the Resource Management Plans and prepare an EIS. The EIS will consider potential impacts on listed and non-listed species and their habitats, water quality and quantity, socioeconomics, and environmental justice. The EIS could also include information regarding potential impacts on other components of the human environment, including air quality, transportation, and cultural resources.

NMFS will rigorously explore and objectively evaluate a full range of reasonable alternatives in the EIS including the proposed action (implementation of the co-managers' Resource Management Plans) and a No Action alternative. Additional alternatives could include at least the following: (1) a decrease in artificial production in selected programs that have a primary goal of augmenting fisheries, and (2) an increase in artificial production in selected programs that have a primary goal of augmenting fisheries.

Comments and suggestions are invited from all interested parties to ensure that the EIS considers the full range of related issues and alternatives to the proposed action. NMFS requests that comments be as specific as possible. In particular, NMFS requests information regarding: other possible alternatives; the direct, indirect, and cumulative impacts that implementation of the proposed Resource Management Plans could have on endangered and threatened species and their communities and habitats; potential adaptive management and/or monitoring provisions; funding issues; baseline environmental conditions in Clallam, Island, King, Kitsap, Jefferson, Mason, Pierce, San Juan, Skagit, Snohomish, Thurston, and Whatcom Counties; other plans or projects that might be relevant to this proposed project; and potential methods to minimize and mitigate for impacts.

Written comments concerning the proposed action and its environmental review should be directed to NMFS as described above (see ADDRESSES). All comments and materials received, including names and addresses, will become part of the administrative record and may be released to the public. Questions may be directed to Allyson Ouzts with NMFS at (503) 736-4736.

The environmental review of this project will be conducted in accordance with the requirements of the National Environmental Policy Act of 1969, as amended (42 U.S.C. 4321 et seq.), National Environmental Policy Act Regulations (40 CFR 1500 parts 1508), and other appropriate Federal laws and regulations, and policies and procedures of NMFS for compliance with those regulations.

Dated: May 7, 2004.
Phil Williams,
Chief, Endangered Species Division, Office of Protected Resources, National Marine Fisheries Service.

[FR Doc. 04-10788 Filed 5-11-04; 8:45 am]

BILLING CODE 3510-22-S